DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by March 20, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Financial Information Security Request Form.

OMB Control Number: 0596-0204.

Summary of Collection: The majority of Forest Service's (FS) financial records are in databases stored at the National Finance Center (NFC). The Federal Information Security Reform Act of 2002 (Pub. L. 107-347) and Information Technology Management Reform Act of 1996 (Pub. L. 104-106) authorize the Forest Service to obtain information necessary for contracted employees to access and maintain these records.

Need and Use of the Information: The Forest Service uses a paper and electronic version of its form FS-6500-214 to gather name, work email, work telephone number, job title etc. for a specific contracted employee to apply to NFC for access. Prior to filling out the firm, contractors must first complete specific training before a user may request access to certain financial systems. NFC grants access to users only at the request of Client Security Officers. The unit's Client Security Officer is responsible for management of access to computers and coordinates all requests for NFC. The information collected is shared with those managing or overseeing the financial systems used by the FS, this includes auditors.

Description of Respondents: Contracted Employees.

Number of Respondents: 209.

Frequency of Reponses: Reporting: Yearly.

Total Burden Hours: 315.

Forest Service

Title: Federal and Non-Federal Financial Assistance Instruments.

OMB Control Number: 0596-0217.

Summary of Collection: To carry out specific Forest Service activities, Congress created several authorities to assist the Agency in its mission. These authorities allow the Forest Service to utilize Federal Financial Assistance (FFA) awards (i.e., grants and cooperative agreements) to support agency specific authorities and appropriations. Included in this collection are forms related to the Award Letter, Certification Letters, FFA related Standard Forms (SF), and information related to Pre-Award and Post-Award activities, which include but not limited to, the project description, project scope, financial plan, statement of work, and cooperator business information.

Need and Use of the Information: In addition to Federal Financial Assistance (FFA), Congress created specific authorizations for acts outside the scope of the FGCAA. Appropriations language was developed to convey authority for the Forest Service to enter relationships that are outside the scope of the FGCAA. The Forest Service implements these authorizations using instruments such as collection agreements, FGCAA exempted agreements, memorandums of understanding, and other agreements which mutually benefit participating parties. These instruments fall outside the scope of the Federal Acquisition Regulations (FAR) and often require financial plans and statements of work. Forest Service employees collect information from cooperating parties from the pre-award to the closeout stage via telephone calls, emails, postal mail, and person-to-person meetings to create, develop, and administer these funded and non-funded agreements. The multiple means for respondents to communicate their responses include forms, non-forms, electronic documents, face-to-face, telephone, and internet. The scope of information collected varies; however, it typically includes the project type, project scope, financial plan, statement of work, and cooperator's business information.

The Forest Service would not be able to create, develop, and administer these funded and non-funded agreements without the collected information. The Agency would also be unable to develop or monitor projects, make or receive payments, or identify financial and accounting errors.

Description of Respondents: Business or other for-profit; Not-for-profit Institutions; State, Local or Tribal Government; Individuals.

Number of Respondents: 16,986.

Frequency of Responses: Recordkeeping; Reporting: Quarterly; On occasion.

Total Burden Hours: 32,767.

Forest Service

Title: Federal Excess Personal and Firefighter Property Program Administration.

OMB Control Number: 0596-0223.

Summary of Collection: Federal Excess Personal Property (FEPP) and Firefighter Property (FFP) programs provide state (including US territories) forestry agencies the opportunity to obtain excess Department of Defense and other Federal agencies equipment and supplies to be used in firefighting and emergency services. The authority to provide excess supplies to state agencies comes from Federal Property and Administration Services Act of 1949, as amended, 40 U.S.C., Sec 202. Authority to loan excess supplies comes from 10 U.S.C., Subtitle A, Part IV, Chapter 153, 2576b grants the authority for the FFP.

Need and Use of the Information: The Forest Service (FS) “Federal Excess Property Management Information System (FEPMIS) database allows the FS to collect FEPP and FFP information used to manage property inventory electronically. Access to the database is limited to those state employees with access authorized by FS Management Officers working in the fire and Aviation staff. Each state designates an Accountable Officer who is responsible for the integrity of the program within their respective state and completing the necessary documentation for each program in which the state participates. For this reason FEPP and FFP collects the state forestry agency contact information and the information of the Accountable Officer. Cooperative Agreement forms FS-3100-10 and/or FS-3100-11 are used to collect the required information from the participating state agency that outlines the requirements and rules for the cooperation. Participating state agencies must submit separate agreements if they desire to participate in both programs.

Description of Respondents: State and local government.

Number of Respondents: 76.

Frequency of Responses: Recordkeeping; Reporting: Annual.

Total Burden Hours: 600.

Levi S. Harrell,
Departmental Information Collection Clearance Officer.

[FR Doc. 2023-03346 Filed 2-16-23; 8:45 am]

BILLING CODE 3411-15-P